NUCLEAR REGULATORY COMMISSION

[Docket Nos. 50-250 and 50-251]

Florida Power and Light, Turkey Point Units 3 and 4; Environmental Assessment and Finding of No Significant Impact

The U.S. Nuclear Regulatory Commission (NRC) is considering issuance of amendments to Facility Operating License (FOL) Nos. DPR-31 and DPR-41, issued to Florida Power and Light Company (the licensee), for operation of the Turkey Point Nuclear Plant Units 3 and 4, located in Miami-Dade County, Florida. Therefore, pursuant to Title 10 of the Code of Federal Regulations (10 CFR) part 50, section 51.21, the NRC is issuing this environmental assessment and finding of no significant impact.

Environmental Assessment

Identification of the Proposed Action: The proposed action would revise the Turkey Point, Units 3 and 4, FOLs and Technical Specifications (TSs) to correct, update, and reorder the TS Index, reformat TS equations with more appropriate mathematical symbols, delete irrelevant information, correct an error in the titling of a figure, correct ACTION and APPLICABILITY statements to improve consistency and readability, and would enhance, through administrative means, the overall clarity of the TSs.

The proposed action is in accordance with the licensee's application dated December 20, 2002, as supplemented in a letter dated August 15, 2003.

The Need for the Proposed Action: The proposed action is needed in order to achieve consistency with previously approved TS amendments, and other parts of the existing TSs through administrative changes.

Environmental Impacts of the Proposed Action: The NRC has completed its evaluation of the proposed action and concludes that the proposed license amendment and associated changes to the TSs are administrative in nature and have no effect on the physical aspect or operation of components or structures within the restricted area as defined in 10 CFR part 20.

The proposed action will not significantly increase the probability or consequences of accidents, no changes are being made in the types or amounts of any effluents that may be released offsite, and there is no significant increase in occupational or public radiation exposure. Therefore, there are no significant radiological environmental impacts associated with the proposed action.

With regard to potential nonradiological impacts, the proposed action does not have a potential to affect any historic sites. It does not affect nonradiological plant effluents and has no other environmental impacts. Therefore, there are no significant nonradiological environmental impacts associated with the proposed action.

Accordingly, the NRC concludes that there are no significant environmental impacts associated with the proposed action.

Environmental Impacts of the Alternatives to the Proposed Action: As an alternative to the proposed action, the staff considered denial of the proposed action (i.e., the “no-action” alternative). Denial of the application would result in no change in current environmental impacts. The environmental impacts of the proposed action and the alternative action are similar.

Alternative Use of Resources: The action does not involve the use of any different resource than those previously considered in the Final Environmental Statement for the Turkey Point Nuclear Plant, Units 3 and 4, dated July 1972.

Agencies and Persons Consulted: Based upon a letter dated March 8, 1991, from Ms. Mary E. Clark of the State of Florida, Department of Health and Rehabilitative Services, to Ms. Deborah A. Miller, Licensing Assistant, NRC, the State of Florida does not desire notification of issuance of license amendments.

Finding of No Significant Impact

On the basis of the environmental assessment, the NRC concludes that the proposed action will not have a significant effect on the quality of the human environment. Accordingly, the NRC has determined not to prepare an environmental impact statement for the proposed action.

For further details with respect to the proposed action, see the licensee's letter dated December 20, 2002. Documents may be examined, and/or copied for a fee, at the NRC's Public Document Room (PDR), located at One White Flint North, Public File Area O1 F21, 11555 Rockville Pike (first floor), Rockville, Maryland. Publicly available records will be accessible electronically from the Agencywide Documents Access and Management System (ADAMS) Public Electronic Reading Room on the Internet at the NRC Web site, http://www.nrc.gov/reading-rm/adams.html. Persons who do not have access to ADAMS or who encounter problems in accessing the documents located in ADAMS, should contact the NRC PDR Reference staff by telephone at 1-800-397-4209 or 301-415-4737, or by e-mail to pdr@nrc.gov.

Dated at Rockville, Maryland, this 25th day of August 2003.
For the Nuclear Regulatory Commission.
Eva A. Brown,
Project Manager, Section 2, Project Directorate II, Division of Licensing Project Management, Nuclear Regulation Reactor.

[FR Doc. 03-22105 Filed 8-28-03; 8:45 am]

BILLING CODE 7590-01-P